ENVIRONMENTAL PROTECTION AGENCY

[FRL-9805-2; CERCLA-04-2013-3751]

LWD, Inc. Superfund Site; Calvert City, Marshall County, Kentucky; Notice of Settlement

AGENCY: Environmental Protection Agency (EPA).

ACTION: Notice of Settlement.

SUMMARY: Under 122(h) of the Comprehensive Environmental Response, Compensation and Liability Act (CERCLA), the United States Environmental Protection Agency has entered into a settlement with one hundred twenty-five (125) parties and nineteen (19) Federal Agencies addressing past costs concerning the LWD, Inc., Superfund Site located in Calvert City, Marshall County, Kentucky. The settlement addresses costs from a federally funded Removal Action taken by EPA at the Site and response costs incurred by the settling parties in connection with the Site pursuant to a 2007 work AOC.

DATES: The Agency will consider public comments on the settlement until May 20, 2013. The Agency will consider all comments received and may modify or withdraw its consent to the settlement if comments received disclose facts or considerations which indicate that the settlement is inappropriate, improper, or inadequate.

ADDRESSES: Copies of the settlement are available from EPA's Environmental Protection Specialist, Ms. Paula V. Painter. Submit your comments by Site name LWD, Inc., Superfund Site by one of the following methods:

• www.epa.gov/region4/superfund/programs/enforcement/enforcement.html

• Email. Painter.Paula@epa.gov

• U.S. Environmental Protection Agency, Attn: Paula V. Painter, Superfund Division, 61 Forsyth Street SW., Atlanta, Georgia 30303

FOR FURTHER INFORMATION CONTACT: Paula V. Painter at 404/562-8887.

Dated: April 11, 2013.
Anita L. Davis,
Chief, Superfund Enforcement & Information Management Branch, Superfund Division.

[FR Doc. 2013-09306 Filed 4-18-13; 8:45 am]

BILLING CODE 6560-50-P